SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before May 12, 2021.

ADDRESSES: Written comments and recommendations for this information collection request should be sent within 30 days of publication of this notice to www.reginfo.gov/public/do/ PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain

SUPPLEMENTARY INFORMATION: SBA has authority under 15 U.S.C. 634(b) and 31 U.S.C. 3711 to compromise and settle debts owed to the Agency by borrowers or guarantors in SBA's loan programs. The financial information provided by debtors on SBA Form 770 is a prerequisite to such compromise or settlement. SBA uses the information in making a determination regarding the repayment and or compromise of the debts and other liquidation proceedings, including litigation by the Agency and/or the Department of Justice..

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0012.

Title: Financial Statement of Debtor.

SBA Form Number: SBA Form 770.

Description of Respondents: Debtors in SBA Loan Program.

Estimated Number of Respondents: 5,000.

Estimated Annual Responses: 5,000.

Estimated Annual Hour Burden: 5,000.

Curtis Rich,
Management Analyst.

[FR Doc. 2021-07421 Filed 4-9-21; 8:45 am]

BILLING CODE 8026-03-P